Title 3—

The President

Notice of September 11, 2017

Continuation of the National Emergency With Respect to Certain Terrorist Attacks

Consistent with section 202(d) of the National Emergencies Act, 50 U.S.C. 1622(d), I am continuing for 1 year the national emergency previously declared on September 14, 2001, in Proclamation 7463, with respect to the terrorist attacks of September 11, 2001, and the continuing and immediate threat of further attacks on the United States.

Because the terrorist threat continues, the national emergency declared on September 14, 2001, and the powers and authorities adopted to deal with that emergency must continue in effect beyond September 14, 2017. Therefore, I am continuing in effect for an additional year the national emergency declared on September 14, 2001, in response to certain terrorist attacks.

This notice shall be published in the Federal Register and transmitted to the Congress.

THE WHITE HOUSE,

September 11, 2017.

[FR Doc. 2017-19601

Filed 9-12-17; 11:15 am]

Billing code 3295-F7-P